ENVIRONMENTAL PROTECTION AGENCY

[EPA-HQ-OA-2014-0001; FRL-9918-31-OA]

Good Neighbor Environmental Board Notification of Public Advisory Committee Teleconference

AGENCY: Environmental Protection Agency (EPA).

ACTION: Notice of Public Advisory Committee Teleconference.

SUMMARY: Pursuant to the Federal Advisory Committee Act, Public Law 92-463, notice is hereby given that the Good Neighbor Environmental Board (Board) will hold a public teleconference on October 30, 2014 from 11:00-3:00 p.m. Eastern Standard Time. Due to budgetary issues, EPA is announcing this teleconference with less than 15 calendar days public notice. The meeting is open to the public. For further information regarding the teleconference and background materials, please contact Ann-Marie Gantner at the number provided below.

Background: The Good Neighbor Environmental Board is a federal advisory committee chartered under the Federal Advisory Committee Act, PL 92-463. By statute, the Board is required to submit an annual report to the President and Congress on environmental and infrastructure issues along the U.S. border with Mexico.

Purpose of Meeting: The purpose of this teleconference is to discuss and approve the Board's Sixteenth Report, which focuses on ecological restoration in the U.S.-Mexico border region.

General Information: The agenda and teleconference materials will be available at http://www.regulations.gov under Docket ID: EPA-HQ-OA-2014-0001. General information about the Board can be found on its Web site at http://www2.epa.gov/faca/gneb.

If you wish to make oral comments or submit written comments to the Board, please contact Ann-Marie Gantner at least five days prior to the teleconference. Written comments should be submitted at http://www.regulations.gov under Docket ID: EPA-HQ-OA-2014-0001.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: October 10, 2014.
Ann-Marie Gantner,
Acting Designated Federal Officer.

[FR Doc. 2014-25144 Filed 10-21-14; 8:45 am]

BILLING CODE 6560-50-P